FEDERAL ELECTION COMMISSION

Sunshine Act Meeting

FEDERAL REGISTER CITATION NOTICE OF PREVIOUS ANNOUNCEMENT: 86 FR 60816.

PREVIOUSLY ANNOUNCED TIME, DATE, AND PLACE OF THE MEETING: Wednesday, November 10, 2021 at 10:00 a.m., virtual meeting.

CHANGES IN THE MEETING: The Open Meeting will begin at 1:00 p.m.

CONTACT PERSON FOR MORE INFORMATION: Judith Ingram, Press Officer; Telephone: (202) 694-1220.

Authority: Government in the Sunshine Act, 5 U.S.C. 552b.

Laura E. Sinram,
Acting Secretary and Clerk of the Commission.

[FR Doc. 2021-24759 Filed 11-8-21; 4:15 pm]

BILLING CODE 6715-01-P